ENVIRONMENTAL PROTECTION AGENCY

40 CFR Part 271

[EPA-R03-RCRA-2022-0280; FRL-9951-01-R3]

Delaware: Final Authorization of State Hazardous Waste Management Program Revisions

AGENCY: Environmental Protection Agency (EPA).

ACTION: Proposed rule.

SUMMARY: The State of Delaware has applied to Environmental Protection Agency (EPA) for final authorization of revisions to its hazardous waste program under the Resource Conservation and Recovery Act (RCRA). By this action, EPA proposes to grant final authorization to Delaware. In the “Rules and Regulations” section of this Federal Register, EPA is authorizing the revisions by a direct final rule. EPA did not make a proposal prior to the direct final rule because EPA believes this action is not controversial and does not expect comments that oppose it. EPA has explained the reasons for this authorization in the preamble to the direct final rule. Unless EPA receives written adverse comments pertaining to this State revision during the comment period, the direct final rule will become effective on the date it establishes, and EPA will not take further action on this proposed rulemaking. However, if EPA receives adverse comments pertaining to this State revision, EPA will publish a timely withdrawal in the Federal Register, and this direct final rule will not take effect. EPA will then respond to public comments in a later final rule based on this proposed rulemaking. You may not have another opportunity for comment. If you want to comment on this action, you must do so at this time.

DATES: Send written comments by January 6, 2023.

ADDRESSES: Submit your comments, identified by Docket ID No. EPA-R03-RCRA-2022-0351, at www.regulations.gov. Follow the online instructions for submitting comments. Once submitted, comments cannot be edited or removed from www.regulations.gov. The EPA may publish any comment received to its public docket. Do not submit electronically any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit www.epa.gov/dockets/commenting-epa-dockets. The EPA encourages electronic submittals, but if you are unable to submit electronically or need other assistance, please contact Claudia Scott, the contact listed in the FOR FURTHER INFORMATION CONTACT provision below. Please also contact Ms. Scott if you need assistance in a language other than English or if you are a person with disabilities who needs a reasonable accommodation at no cost to you.

FOR FURTHER INFORMATION CONTACT: Claudia Scott, RCRA Programs Branch, Land, Chemicals and Redevelopment Division, U.S. Environmental Protection Agency Region 3, Four Penn Center, 1600 John F. Kennedy Blvd., (Mail Code 3LD30), Philadelphia, PA 19103-2852; phone: (215) 814-3240, email: scott.claudia@epa.gov.

SUPPLEMENTARY INFORMATION: EPA has explained the reasons for this action in the preamble to the direct final rule. For additional information, see the direct final rule published in the “Rules and Regulations” section of this Federal Register.

Authority: This action is issued under the authority of sections 2002(a), 3006 and 7004(b) of the Solid Waste Disposal Act, as amended,42 U.S.C. 6912(a), 6926, 6974(b).

Adam Ortiz,
Regional Administrator, EPA Region III.

[FR Doc. 2022-22798 Filed 12-6-22; 8:45 am]

BILLING CODE 6560-50-P